DEPARTMENT OF EDUCATION

Privacy Act of 1974; System of Records

AGENCY: Office of Inspector General, U.S. Department of Education.

ACTION: Notice of an altered system of records.

SUMMARY: In accordance with the Privacy Act of 1974, as amended (Privacy Act), the Department of Education (Department) publishes this notice to revise the system of records notice for the Investigative Files of the Inspector General (18-10-01), 64 FR 30151-30153 (June 4, 1999), as corrected by 67 FR 4415-4417 (January 30, 2002), as amended by 68 FR 38153-38158 (June 26, 2003), as amended by 75 FR 33608-33610 (June 14, 2010), as corrected by 75 FR 36374-36375 (June 25, 2010). The Department amends this system of records notice by: proposing to revise routine use (14), “Disclosure to the Recovery Accountability and Transparency Board (RATB),” to allow disclosure to any successor entity of the RATB, to the Government Accountability and Transparency Board (GATB) or any successor entity, or to any other Federal, State, local, or foreign agency or other entity responsible for coordinating and conducting oversight of Federal funds, in order to prevent fraud, waste, and abuse related to Federal funds, or for assisting in the enforcement, investigation, prosecution, or oversight of violations of administrative, civil, or criminal law or regulation. This system of records provides essential support for investigative activities of the Office of Inspector General (OIG) relating to the Department's programs and operations, enabling the OIG to secure and maintain the necessary information and to coordinate with other law enforcement agencies as appropriate.

DATES: The Department seeks comments on the altered routine use of the information in the system of records described in this notice, in accordance with the requirements of the Privacy Act. We must receive your comments on or before September 19, 2012.

The Department filed a report describing the altered system of records covered by this notice with the Chair of the Senate Committee on Homeland Security and Governmental Affairs, the Chair of the House Committee on Oversight and Government Reform, and the Administrator of the Office of Information and Regulatory Affairs, Office of Management and Budget (OMB) on August 15, 2012. This altered system of records will become effective at the later date of—(1) the expiration of the 40-day period for OMB review on September 24, 2012, unless OMB waives 10 days of its 40-day review period for compelling reasons shown by the Department, in which case on September 14, 2012, or (2) September 19, 2012, unless the system of records needs to be changed as a result of public comment or OMB review. The Department will publish any changes to the revised routine use that results from public comment or OMB review of this notice.

ADDRESSES: Address all comments about the proposed altered routine use to this system of records to William Hamel, Assistant Inspector General for Investigation Services, Office of Inspector General, U.S. Department of Education, 400 Maryland Avenue SW., Room 8166, PCP Building, Washington, DC 20202-1510. If you prefer to send your comments by email, use the following address: comments@ed.gov.

You must include the term “OIG Investigative Files” in the subject line of your electronic message.

During and after the comment period, you may inspect all public comments about this notice at the U.S. Department of Education, Room 8166, PCP Building, 500 12th Street, SW., Washington, DC 20202-0028, between the hours of 8:00 a.m. and 4:30 p.m., Eastern Time, Monday through Friday of each week except Federal holidays.

Assistance to Individuals With Disabilities in Reviewing the Rulemaking Record

On request we will supply an appropriate accommodation or auxiliary aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Benjamin Shapiro, Assistant Counsel to the Inspector General, 400 Maryland Avenue SW., PCP Building, Room 8166, Washington, DC 20202-1510. Telephone: (202) 245-7601.

If you use a telecommunications device for the deaf (TDD) or a text telephone (TTY), call the Federal Relay Service (FRS), toll free, at 1-800-877-8339.

SUPPLEMENTARY INFORMATION:

Introduction

The Privacy Act (5 U.S.C. 552a) requires the Department to publish in the Federal Register this notice of an altered system of records (5 U.S.C. 552a(e)(4) and (11)). The Department's regulations implementing the Privacy Act are contained in part 5b of title 34 of the Code of Federal Regulations (CFR).

The Privacy Act applies to a record about an individual that contains individually identifying information that is retrieved by a unique identifier associated with each individual, such as a name or Social Security number. The information about each individual is called a “record,” and the system, whether manual or computer-based, is called a “system of records.”

The Privacy Act requires each agency to publish a notice of a system of records in the Federal Register and prepare a report to OMB, whenever the agency publishes a new system of records or makes a significant change to an established system of records. Each agency is also required to send copies of the report to the Chair of the Senate Committee on Homeland Security and Governmental Affairs and the Chair of the House Committee on Oversight and Government Reform. The report is intended to permit an evaluation of the probable or potential effect of the proposal on the privacy rights of individuals.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 15, 2012.
Kathleen S. Tighe,
Inspector General.

For the reasons discussed in the preamble, the Inspector General of the U.S. Department of Education publishes a notice of an altered system of records. The following amendments are made to the Notice of an Altered System of Records for the system of records entitled “Investigative Files of the Inspector General” (18-10-01), as published in the Federal Register on June 4, 1999 (64 FR 30151-30153 (June 4, 1999)), as corrected by 67 FR 4415-4417 (January 30, 2002), as amended by 68 FR 38153-38158 (June 26, 2003), as amended by 75 FR 33608-33610 (June 14, 2010), as corrected by 75 FR 36374-36375 (June 25, 2010):

1. On 68 FR 38157, 1st column, as amended by 75 FR 33610 (June 14, 2010), the paragraph labeled “(14) Disclosure to the Recovery Accountability and Transparency Board (RATB),” is revised to read as follows:

(14) Disclosure to Entities Responsible for Oversight of Federal Funds. The OIG may disclose records as a routine use to the Recovery Accountability and Transparency Board (RATB) or any successor entity, to the Government Accountability and Transparency Board (GATB) or any successor entity, or to any other Federal, State, local, or foreign agency or other entity responsible for coordinating and conducting oversight of Federal funds, in order to prevent fraud, waste, and abuse related to Federal funds, or for assisting in the enforcement, investigation, prosecution, or oversight of violations of administrative, civil, or criminal law or regulation, if that information is relevant to any enforcement, regulatory, investigative, prosecutorial, or oversight responsibility of the Department or of the receiving entity.

[FR Doc. 2012-20407 Filed 8-17-12; 8:45 am]

BILLING CODE 4000-01-P